ENVIRONMENTAL PROTECTION AGENCY

[FRL-8270-2]

Clean Water Act Section 303(d): Availability of San Gabriel River Total Maximum Daily Loads (TMDLs)

AGENCY: Environmental Protection Agency (EPA).

ACTION: Notice of availability.

SUMMARY: This action announces the availability of EPA proposed total maximum daily loads (TMDLs) in San Gabriel River watershed to address water quality limited segments and elevated metals and selenium levels pursuant to Clean Water Act Section 303(d)(1), and requests public comment. Section 303(d)(1) requires that states submit water quality planning documents called total maximum daily loads for impaired waters for which existing technology-based pollution controls are not stringent enough to attain or maintain state water quality standards. EPA must approve or disapprove the State's submitted TMDLs.

Today, EPA is providing the public the opportunity to review proposed TMDLs for San Gabriel River metals. EPA is establishing these TMDLs in lieu of California because of deadlines associated with the consent decree described below. EPA will prepare a responsiveness summary that demonstrates how public comments were considered in the final TMDL decisions. The responsiveness document will be available when the TMDLs are established.

DATES: Comments must be submitted to EPA on or before February 15, 2007.

ADDRESSES: Comments on the proposed decisions should be sent to Terrence Fleming, Water Division (WTR-2), U.S. Environmental Protection Agency Region IX, 75 Hawthorne Street, San Francisco, CA 94105, telephone (415) 972-3462, facsimile (415) 947-3537, e-mail fleming.terrence@epa.gov. Oral comments will not be considered. Copies of the proposed TMDLs for San Gabriel River watershed will be available on EPA Region 9's Web site at http://www.epa.gov/region9/water/tmdl/303d.html or by writing or calling Mr. Fleming at the above address. Underlying documentation comprising the record for these TMDLs is available for public inspection at the above address.

FOR FURTHER INFORMATION CONTACT: Terrence Fleming at (415) 972-3462 or fleming.terrence@epa.gov.

SUPPLEMENTARY INFORMATION: Section 303(d) of the Clean Water Act requires states to identify water bodies that do not meet water quality standards and then to establish TMDLs for each water body for each pollutant of concern. TMDLs identify the maximum amount of pollutants that can be discharged to water bodies without causing violations of water quality standards. Several reaches or tributaries of the San Gabriel River are included on the State of California's Section 303(d) list of polluted waters due to water quality impacts associated with discharges of metals and selenium. EPA will establish TMDLs for metals and selenium for waters in the watershed by March 26, 2007 because of deadlines under a consent decree (Heal the Bay Inc., et al. v. Browner C 98-4825 SBA, entered March 24, 1999).

The Los Angeles Regional Water Quality Control Board is in the process of developing TMDLs for metals and selenium for the San Gabriel River watershed. However, because the State is not expected to adopt and submit these metals and selenium TMDLs by March 26, 2007, EPA is establishing these metals and selenium pollutant TMDLs.

Dated: January 8, 2007.
Nancy Woo,
Acting Director, Water Division, Region IX.

[FR Doc. E7-636 Filed 1-17-07; 8:45 am]

BILLING CODE 6560-50-P